ENVIRONMENTAL PROTECTION AGENCY

[ER-FRL-6650-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 02, 2004 (69 FR 17403).

Draft EISs

ERP No. D-AFS-K65266-AZ Rating LO, Arizona Snowbowl Facilities Improvements, Proposal to Provide a Consistent/Reliable Operating Season, Coconino National Forest, Coconino County, AZ.

Summary: While EPA had no objections to the plan as proposed, EPA did request clarification on Tribe consultation and mitigation of erosion and air quality impacts associated with construction.

ERP No. D-BIA-J60021-UT Rating EC2, Tekoi Balefill Project on the Skull Valley Band of Goshute Indians Reservation, Approval of Long-Term Lease of Indian Land for a Commercial Solid Waste Disposal Facility, Salt Lake City, Tooele County, UT.

Summary: EPA expressed concerns regarding environmental oversight of the landfill during design, construction, operation, and closure. Although the landfill will be regulated under RCRA, there are no provision for Tribes to develop approved RCRA municipal solid waste programs to permit and oversee the landfill. Additional information is also needed regarding faults at the proposed site and groundwater availability.

ERP No. D-FHW-E40799-TN Rating EC2, Appalachian Development Highway System Corridor K (Relocated Highway U. S. 64), Improvements from West of the Ocoee River to TN-68 near Ducktown, Funding, U.S. Army Corps Section 10 and 404 Permits, Polk County, TN.

Summary: EPA expressed concerns regarding the potential of the project to further degrade water quality and aquatic habitat in the Ocoee River watershed.

ERP No. D-FHW-H40182-00 Rating LO, US-159 Missouri River Crossing Project, Rehabilitate or Replace the Missouri River Bridge at Rulo, Funding and U.S. Army COE Section 404 Permit, Richardson County, NE and Holt County, MO.

Summary: EPA has no objection to the proposed project. However, EPA does request clarification on the type of bridge configuration that the build alternative would employ as well as the potential impact to wildlife movement and habitat use within the riparian section of the floodplain. EPA also requests that the Memorandum of Agreement between the NDOR and SHPO be included in the FEIS.

ERP No. DB-NOA-G64002-00 Rating LO, Reef Fish Management Plan Amendment 22, To Set Red Snapper Sustainable Fisheries Act Targets and Thresholds, Set a Rebuilding Plan, and Establish Bycatch Reporting Methodologies for the Reef Fish Fishery, Gulf of Mexico.

Summary: While EPA has no objections to the proposed action, EPA recommended that the red snapper bycatch issue associated with the shrimp fishery be addressed in future amendments to the shrimp FMP.

Final EISs

ERP No. F-AFS-J65371-WY Medicine Bow National Forest Revised Draft Land and Resource Management Plan, Implementation, Albany, Carbon and Laramie Counties, WY.

Summary: EPA continues to express concerns regarding potential adverse impacts to aquatic and soil resources.

ERP No. F-FHW-J40156-ND US 2 Highway Transportation Improvements from near U.S. 85 (milepost 31.93) to west of U.S. 52 (milepost 131.24), Funding, NPDES and U.S. Army COE Section 404 Permits Issuance, Williams, Mountrail and Ward Counties, ND.

Summary: EPA continues to express environmental concerns with the proposed project due to wetland and aquatic resource impacts and the limited details regarding mitigation for these impacts.

ERP No. F-NRC-E06022-SC Generic—License Renewal of Nuclear Plants, Virgil C. Summer Nuclear Station, Supplement 15, Fairfield County, SC.

Summary: EPA continues to have concerns and recommended that the project assure that there is radiological monitoring of all plant effluents, and that there is appropriate storage and disposition of radioactive waste.

Dated: April 13, 2004.
Ken Mittelholtz,
Environmental Protection Specialist, Office of Federal Activities.

[FR Doc. 04-8671 Filed 4-15-04; 8:45 am]

BILLING CODE 6560-50-P